DEPARTMENT OF ENERGY

Federal Energy Regulatory Commission

[Docket No. RP01-350-003]

Colorado Interstate Gas Company; Notice of Compliance Filing

October 17, 2001.

Take notice that on October 11, 2001, Colorado Interstate Gas Company (CIG) tendered for filing as part of its FERC Gas Tariff, First Revised Volume No. 1, the following tariff sheets to become effective November 1, 2001:

Fifth Revised Sheet No. 7A

First Revised Sheet No. 7B

First Revised Sheet No. 7C

Seventh Revised Sheet No. 8A

Second Revised Sheet No. 8B

First Revised Sheet No. 13C

First Revised Sheet No. 13D

Seventh Revised Sheet No. 21

Third Revised Sheet No. 30

Third Revised Sheet No. 132A.03

Third Revised Sheet No. 231A

Eleventh Revised Sheet No. 234A

Fourth Revised Sheet No. 306A

Fifth Revised Sheet No. 307

Seventh Revised Sheet No. 352

Fifth Revised Sheet No. 353

Fifth Revised Sheet No. 354

Second Revised Sheet No. 355

Seventh Revised Sheet No. 358

CIG states that the tariff sheets are being filed in compliance with Ordering Paragraph (D) of the Commission's September 26, 2001 order in this proceeding addressing the new services proposed by CIG in its rate case.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26606 Filed 10-22-01; 8:45 am]

BILLING CODE 6717-01-P